Executive Order 14184 of January 27, 2025

Reinstating Service Members Discharged Under the Military's COVID-19 Vaccination Mandate

By the authority vested in me as President by the Constitution and the laws of the United States of America, it is hereby ordered:

Section 1. Purpose and Policy. On August 24, 2021, the Secretary of Defense mandated that all service members receive the COVID-19 vaccine. The Secretary of Defense later rescinded the mandate on January 10, 2023. The vaccine mandate was an unfair, overbroad, and completely unnecessary burden on our service members. Further, the military unjustly discharged those who refused the vaccine, regardless of the years of service given to our Nation, after failing to grant many of them an exemption that they should have received. Federal Government redress of any wrongful dismissals is overdue.

Sec. 2. Redress. Consistent with the policies announced in section 1 of this order, the Secretary of Defense or the Secretary of Homeland Security, as appropriate, shall take all necessary action permitted by law to:

(a) make reinstatement available to all members of the military (active and reserve) who were discharged solely for refusal to receive the COVID-19 vaccine and who request to be reinstated;

(b) enable those service members reinstated under this section to revert to their former rank and receive full back pay, benefits, bonus payments, or compensation; and

(c) allow any service members who provide a written and sworn attestation that they voluntarily left the service or allowed their service to lapse according to appropriate procedures, rather than be vaccinated under the vaccine mandate, to return to service with no impact on their service status, rank, or pay.

Sec. 3. Additional Agency Responsibilities. (a) Nothing in this order precludes disciplinary or administrative action for conduct that is proscribed by chapter 47 of title 10, United States Code (Uniform Code of Military Justice, 10 U.S.C. 801-946a).

(b) Within 60 days of the date of this order, the Secretary of Defense and the Secretary of Homeland Security shall report to the President through the Assistant to the President for National Security Affairs on their progress in implementing this order.

Sec. 4. Severability. If any provision of this order, or the application of any provision to any person or circumstance, is held to be invalid, the remainder of this order and the application of its provisions to any other persons or circumstances shall not be affected thereby.

Sec. 5. General Provisions. (a) Nothing in this order shall be construed to impair or otherwise affect:

(i) the authority granted by law to an executive department, agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

January 27, 2025.

[FR Doc. 2025-02180

Filed 1-31-25; 8:45 am]

Billing code 3395-F4-P